DEPARTMENT OF COMMERCE

National Oceanic and Atmospheric Administration

RIN 0648-XG319

Marine Mammals; File Nos. 22292 and 22294

AGENCY: National Marine Fisheries Service (NMFS), National Oceanic and Atmospheric Administration (NOAA), Commerce.

ACTION: Notice; receipt of applications.

SUMMARY: Notice is hereby given that Icon Films, 3rd Floor College House, 32-36 College Green, Bristol, BS1 5SP, United Kingdom (Responsible Party: Laura Marshall) (File No. 22292), and Plimsoll Productions, Whiteladies House, 51-55 Whiteladies Road, Clifton, Bristol, BS8 2LY, United Kingdom (Responsible Party: Bill Markham) (File No. 22294) have applied in due form for permits to conduct commercial or educational photography on marine mammals.

DATES: Written, telefaxed, or email comments must be received on or before August 1, 2018.

ADDRESSES: These documents are available upon written request or by appointment in the Permits and Conservation Division, Office of Protected Resources, NMFS, 1315 East-West Highway, Room 13705, Silver Spring, MD 20910; phone (301) 427-8401; fax (301) 713-0376.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on these applications would be appropriate.

FOR FURTHER INFORMATION CONTACT: Carrie Hubard or Sara Young, (301) 427-8401.

SUPPLEMENTARY INFORMATION: The subject permits are requested under the authority of the Marine Mammal Protection Act of 1972, as amended (MMPA; 16 U.S.C. 1361 et seq.) and the regulations governing the taking and importing of marine mammals (50 CFR part 216).

Icon Films (File No. 22292) proposes to film killer whales (Orcinus orca) and harbor seals (Phoca vitulina) in the waters off Seward, AK. Filmmakers may approach up to 100 killer whales to film from boats, pole cameras, or an unmanned aircraft system. Fifty harbor seals may be approached and filmed from a boat. The goal of the project is to obtain footage of killer whales feeding on Chinook salmon for use in a documentary television show to air on Animal Planet in 2019. The permit would be valid until August 30, 2018.

Plimsoll Productions (File No. 22294) proposes to film bottlenose dolphins (Tursiops truncatus) in and around Indian River Lagoon, the Banana River, and Mosquito Lagoon, FL. Filming would occur after sunset, from approximately 10 p.m. to 2 a.m. over 14 days in August and September 2018. Specialized cameras onboard a boat, attached to poles for underwater filming, and on an unmanned aircraft system would be used to film dolphins swimming through bioluminescence. Up to 84 dolphins may be harassed during filming. The footage would be used in a wildlife documentary series about unique animal behaviors and adaptations to living in the dark. The permit would be valid until October 1, 2018.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: June 26, 2018.
Julia Marie Harrison,
Chief, Permits and Conservation Division, Office of Protected Resources, National Marine Fisheries Service.

[FR Doc. 2018-14106 Filed 6-29-18; 8:45 am]

BILLING CODE 3510-22-P